DEPARTMENT OF STATE

[Delegation of Authority No. 322]

Re-Delegation From the Deputy Secretary of State of Certain Authorities Vested in the Under Secretary for Economic, Energy and Agricultural Affairs

By virtue of the authority vested in the Secretary of State by the laws of the United States, including Section 1 of the State Department Basic Authorities Act (22 U.S.C. 2651a), and delegated to me by Delegation of Authority 245, dated April 23, 2001, I hereby delegate to the Principal Deputy Assistant Secretary of State for the Bureau of Economic, Energy, and Business Affairs, to the extent authorized by law, all authorities vested in the Under Secretary of State for Economic, Energy and Agricultural Affairs, including all authorities vested in the Secretary of State that have been or may be delegated or redelegated to that Under Secretary.

Any authorities covered by this delegation are also hereby delegated to the Deputy Secretary for Management and Resources, the Under Secretary for Political Affairs and the Under Secretary for Management, and may also be exercised by the Secretary and the Deputy Secretary. Nothing in this delegation of authority shall be deemed to supersede any existing delegation of authority, which shall remain in full force and effect during and after this delegation.

This delegation shall become effective at noon on January 20, 2009, and shall expire upon the appointment and entry upon duty of a subsequently appointed individual to serve as Under Secretary for Economic, Energy and Agricultural Affairs.

This memorandum shall be published in the Federal Register.

Dated: January 16, 2009.
John D. Negroponte,
Deputy Secretary of State.

[FR Doc. E9-1930 Filed 1-28-09; 8:45 am]

BILLING CODE 4710-10-P